DEPARTMENT OF LABOR

Employment and Training Administration

Job Corps Center Proposal for Deactivation: Comments Requested

AGENCY: Office of Job Corps, Employment and Training Administration (ETA), Labor.

ACTION: Notice.

SUMMARY: The Employment and Training Administration of the U.S. Department of Labor (DOL) is issuing this Notice announcing a new criterion for selecting Job Corps centers for deactivation, and proposing the deactivation of nine Job Corps Civilian Conservation Centers (CCC). The centers are Anaconda CCC in Anaconda, Montana; Blackwell CCC in Laona, Wisconsin; Cass CCC in Ozark, Arkansas; Flatwoods CCC in Coeburn, Virginia; Fort Simcoe CCC located in White Swan, Washington; Frenchburg CCC in Frenchburg, Kentucky; Oconaluftee CCC located in Cherokee, North Carolina; Pine Knot CCC in Pine Knot, Kentucky; and Timber Lake CCC located in Estacada, Oregon. This Notice seeks public comment on the proposed deactivation of these CCCs using the discretion provided to the Secretary of the Department of Labor in the Workforce Innovation and Opportunity Act (WIOA).

DATES: To be ensured consideration, comments must be submitted in writing on or before July 1, 2019.

ADDRESSES: You may submit comments, identified by Docket Number ETA-2019-0003, by only one of the following methods:

Federal e-Rulemaking Portal: http://www.regulations.gov. Follow the website instructions for submitting comments.

Mail and hand delivery/courier: Submit comments to Debra Carr, Acting National Director, Office of Job Corps (OJC), U.S. Department of Labor, Employment and Training Administration, 200 Constitution Avenue NW, Room N- 4459, Washington, DC 20210. Due to security-related concerns, there may be a significant delay in the receipt of submissions by United States Mail. You must consider this when preparing to meet the deadline for submitting comments. DOL will post all comments it receives on http://www.regulations.gov, including any personal information provided. The http://www.regulations.gov website is the Federal e-rulemaking portal and all comments posted there are available and accessible to the public. Commenters should not include personal information, such as Social Security Numbers, personal addresses, telephone numbers, and email addresses, in their comments if they do not wish to make this information public. Comments submitted through http://www.regulations.gov will not include the email address of the commenter unless the commenter chooses to include that information as part of his or her comment. It is the responsibility of the commenter to safeguard personal information.

Instructions: All submissions received should include the Docket Number for the Notice: Docket Number ETA-2019-0003. Please submit your comments using only one of the available submission methods. Due to security concerns, postal mail delivery in Washington, DC may be delayed. Therefore, DOL encourages the public to submit comments on http://www.regulations.gov.

Docket: All comments on this Notice of the proposed deactivation of the identified CCCs will be available on the http://www.regulations.gov website. DOL will also make all of the comments it receives available for public inspection by appointment during normal business hours at the Office of Job Corps provided above. Upon request, individuals requiring assistance reviewing comments will be provided appropriate aids such as readers or print magnifiers. Copies of this Notice are available, upon request, in large print and electronic file on computer disk. To schedule an appointment to review the comments and/or obtain the Notice in an alternative format, contact the Office of Job Corps at (202) 693-3000 (this is not a toll-free number). You may also contact this office at the address listed below.

FOR FURTHER INFORMATION CONTACT: Debra Carr, Acting National Director, Office of Job Corps, ETA, U.S. Department of Labor, 200 Constitution Avenue NW, Room N-4463, Washington, DC 20210; Telephone (202) 693-3000 (this is not a toll-free number). Individuals with hearing or speech impairments may access the telephone number above via TTY by calling the toll-free Federal Information Relay Service at (877) 889-5627 (TTY/TDD).

SUPPLEMENTARY INFORMATION:

I. Background on the Job Corps Program

Established in 1964, Job Corps is a national program administered by ETA within DOL. Through its network of 123 centers in 50 states, Puerto Rico, and the District of Columbia, Job Corps seeks to create career pathways and provide access to meaningful employment opportunities. Job Corps serves at-risk young people, ages 16 to 24, seeking to overcome barriers to employment. These barriers can include poverty, homelessness, or aging out of the foster care system. The program provides the academic, career technical, and employability skills these young people need to enter the workforce, enroll in post-secondary education, or enlist in the military. The Job Corps program is the nation's largest federally-funded, primarily residential skills instruction program.

Various entities, including large and small businesses, manage and operate 98 of the Job Corps centers through contractual agreements with DOL. These contracts are awarded pursuant to Federal procurement rules. The U.S. Department of Agriculture (USDA), through the U.S. Forest Service (FS), operates an additional 24 Civilian Conservation Centers (CCC) through an interagency agreement with DOL. CCCs are located predominantly in rural, and sometimes remote, locations. As with other Job Corps centers, these facilities provide skills training for disadvantaged young people to aid their entry into the American workforce, but with additional focus on conserving the United States' natural resources and providing assistance during natural disasters.

II. Criteria for Proposing a Different Approach

As part of the Department's ongoing efforts to ensure that Job Corps' resources are used to deliver the best possible results for students, it may determine that a different approach will allow Job Corps to serve its students effectively.

The Workforce Innovation and Opportunity Act (WIOA), directs DOL to “establish written criteria that the Secretary shall use to determine when a Job Corps center supported under this part is to be closed and how to carry out such closure[.]” 29 U.S.C. 3211(c). Consequently, DOL previously published criteria for making this determination:

1. A methodology for selecting a center for closure based on its chronic low performance, first described in an August 2014 Federal Register Notice (FRN) (79 FR 51198), and updated in a March 2016 FRN (81 FR 12529);

2. An agreement between the Secretaries of Labor and Agriculture to close a CCC, as described in the March 2016 FRN; or

3. An evaluation of the effort required to provide a high-quality education and training program at the center, as described in the March 2016 FRN.

Through this Notice, the Department is announcing a fourth criterion—program reform and streamlining operations. The Department is engaged in an effort to reform and strengthen the overall management and operation of the Job Corps program, including USDA's recently announced decision to withdraw from the role of operating Job Corps centers. The deactivation of a center or group of centers may advance these efforts by focusing program resources on higher performing centers and improving student access to these centers, increasing cost efficiency, and enhancing the geographic match between student demand for the program and center availability. While the Department will continue to use the existing criteria to close centers when appropriate, the Department may propose a center for deactivation or repurposing when doing so furthers the Department's broad reform and streamlining efforts. In applying this criterion, the Department will not consider the Additional Considerations first discussed in the August 2014 notice and amended in a September 2017 FRN (82 FR 44842). These considerations do not appropriately reflect the importance of operational and structural management, financial management, cost efficiency, and long-term program priorities when pursuing broad agency program reform and streamlining of operations.

DOL may make its closure determination based on any one of the four criteria, and it may apply a single criterion independent of the others. Thus, while a center may qualify under more than one criterion, DOL may choose to rely on only one criterion when making its determination. The written criteria were previously established; therefore, DOL is not seeking comments on them in response to this Notice. The Department is also not seeking comment on the new, fourth criterion.

Prior to making a decision under any one of the first three criteria, DOL also applies the Additional Considerations first discussed in the August 2014 notice and amended in a September 2017 FRN (82 FR 44842).

III. Job Corps Centers Selected for Deactivation

On May 24, 2019, DOL received a letter from USDA expressing its intent to terminate its role in operating Job Corps CCCs to allow the Forest Service to prioritize its core natural resource mission to improve the condition and resilience of the nation's forests. Moreover, the letter established an expectation that by September 30, 2019, each FS Job Corps Civilian Conservation Center will be transitioned out, or on an established plan to transition out, of the Job Corps program.

As part of the CCC phase-out activities, DOL plans to continue Job Corps center operations at all CCC locations except nine. The nine centers proposed for deactivation are Anaconda, Blackwell, Cass, Flatwoods, Fort Simcoe, Frenchburg, Oconaluftee, Pine Knot, and Timber Lake. While the existing second criterion identified above provides for closures based on the mutual agreement of the Secretaries of Labor and Agriculture, it does not pertain to the Department's broader interest in program reform and how that can be executed through center deactivations, repurposing, consolidations/mergers, and other measures.

The proposed deactivation of the nine CCCs is pursuant to the program reform and streamlining criterion. In light of the USDA's decision, the Department considered several factors to determine how to move forward, including how to provide the highest quality services to students; how to leverage efficiencies to serve more students; and how to maximize the capacity of higher performing centers, including those formerly operated by the USDA.

Based on that review, the Department determined that deactivating these nine centers would advance broad program reform and streamlining of operations, while also serving more students. Some of the centers suffer from a variety of problems, including operating under-capacity, not achieving long-term student outcomes, and operating in an inefficient manner. Others are located in close proximity to other higher-performing centers where increasing the student capacity of the nearby center would better serve students. Deactivating these centers would give Job Corps participants access to higher quality services, allow the program to serve more students, streamline and make effective use of existing facilities, reduce student transportation costs, and eliminate the need for costly facility construction and rehabilitation activities. Accordingly, the Department proposes to deactivate the nine CCCs identified above.

IV. Request for Public Comments

Because it is using the fourth criterion, DOL is not applying the Additional Considerations as amended in the September 2017 FRN. However, DOL contemplated the Additional Considerations and concluded that, if applied, they would not preclude the proposed deactivation of the identified CCCs.

DOL requests public comments on its proposal to deactivate the Anaconda CCC in Anaconda, Montana; Blackwell CCC in Laona, Wisconsin; Cass CCC in Ozark, Arkansas; Flatwoods CCC in Coeburn, Virginia; Fort Simcoe CCC in White Swan, Washington; Frenchburg CCC in Frenchburg, Kentucky; Oconaluftee CCC in Cherokee, North Carolina; Pine Knot CCC in Pine Knot, Kentucky; and Timber Lake CCC in Estacada, Oregon.

V. The Process Under the Workforce Innovation and Opportunity Act

The process will follow the requirements of section 159(j) of the WIOA, which include the following:

• Announcing the proposed decision concerning a particular center in advance to the public through publication in the Federal Register or other appropriate means;

• Establishing a reasonable comment period, not to exceed 30 days, for interested individuals to submit written comments to the Secretary; and

• Notifying the Member of Congress who represents the district in which the center is located within a reasonable period in advance of any final decision concerning the status of the center.

This Notice serves as the public announcement of the proposals associated with the following CCCs: Anaconda, Blackwell, Cass, Flatwoods, Frenchburg, Fort Simcoe, Oconaluftee, Pine Knot, and Timber Lake. DOL is providing a 30-day period—the maximum amount of time allowed for comment under WIOA sec. 159(j)—for interested individuals to submit written comments on the proposed decision. DOL will announce its final decision following the conclusion of the comment period.

Signed in Washington, DC.
Molly E. Conway,
Acting Assistant Secretary for Employment and Training, Labor.

[FR Doc. 2019-11262 Filed 5-24-19; 4:15 pm]

BILLING CODE 4510-FT-P